DEPARTMENT OF THE INTERIOR

Bureau of Land Management

[BLM_CA_FRN_MO4500159291]

Public Meetings: Northern California District Resource Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Northern California District Resource Advisory Council (RAC) will meet as follows.

DATES: The Northern California District RAC will meet virtually February 5, 2025, from 9 a.m. to 2 p.m. Pacific time (PT); participate in a field tour on May 14, 2025, from 10 a.m. to 4 p.m. PT and meet on May 15, 2025, from 8 a.m. to 2 p.m. PT; and participate in a field tour on September 17, 2025, from 10 a.m. to 4 p.m. PT and meet on September 18, 2025, from 8 a.m. to 2 p.m. PT. The May and September 2025 meetings will be held in-person, and a virtual participation option will be available.

ADDRESSES: The May 14, 2025, field tour will commence and conclude, and the May 15, 2025, meeting will be held, at the BLM Northern California District Office, 6640 Lockheed Drive, Redding, CA 96002. The September 17, 2025, field tour will commence and conclude, and the September 18, 2025, meeting will be held, at Harbor Lights Lodge, 120 N Harbor Drive, Fort Bragg, CA 95437. Meeting links and virtual participation instructions for the February 5, 2025, the May 15, 2025, and the September 18, 2025, meetings will be provided to the public via online announcement, social media posts, and on the RAC's web page at blm.gov/get-involved/rac/California/northern-california-rac, and through personal contact two weeks prior to the meetings. Written comments pertaining to the meetings should be marked Attention: RAC meeting comments and can be sent to the individual listed in the FOR FURTHER INFORMATION CONTACT section of this notice.

FOR FURTHER INFORMATION CONTACT: Public Affairs Officer, Joseph J. Fontana, telephone: 530-260-0189; email: jfontana@blm.gov. Individuals in the United States who are deaf, deafblind, hard of hearing, or have a speech disability may dial 711 (TTY, TDD, or TeleBraille) to access telecommunications relay services. Individuals outside the United States should use the relay services offered within their country to make international calls to contact Mr. Fontana in the United States.

SUPPLEMENTARY INFORMATION: The 15-member RAC advises the Secretary of the Interior, through the BLM, on a variety of planning and management issues associated with BLM-managed public lands in northern California and far northwest Nevada. For the February 5, 2025, virtual meeting, agenda items will include a presentation from the U.S. Forest Service on Federal Lands Recreation Enhancement Act administration, Northwest California Integrated Resource Management Plan (NCIP) implementation, land tenure status, recent acquisitions, wild horse management, and wild horse adoption suggestions. The May 14, 2025, field tour will be a river float trip along the Sacramento River Bend Area of Critical Environmental Concern. Participants will stop at various segments of the river to discuss management considerations. For the May 15, 2025, meeting, agenda topics will include discussions on U.S. Forest Service business plans, BLM wild horse management, NCIP implementation, and land acquisitions. The September 17, 2025, field tour will include a drive to the Lost Coast Redwoods property with discussions on BLM management options. For the September 18, 2025, meeting, agenda topics will include U.S. Forest Service business plans, management considerations for Lost Coast Redwoods, status of district land acquisitions, status of wild horse management in Applegate Field Office, and continued discussions about increasing wild horse adoptions. Members of the public are welcome on field tours but must provide their own transportation and meals. All meetings are open to the public. Public comments will be accepted at 11 a.m. PT on each business meeting day. Depending on the number of persons wishing to speak and the time available, the amount of time for oral comments may be limited. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Requests for Accommodations

Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Detailed meeting minutes for the RAC meetings will be maintained in the Northern California District Office. Minutes will also be posted to the California RAC web page.

Authority: 43 CFR 1784.4-2.

Erica St. Michel,
Deputy State Director, Communications.

[FR Doc. 2024-30514 Filed 12-20-24; 8:45 am]

BILLING CODE 4331-15-P